FEDERAL RESERVE SYSTEM

[Docket No. R-1068]

Policy Statement on Payments System Risk Modifications to Daylight Overdraft Posting Rules; Delay of Effective Date; Correction

AGENCY: Board of Governors of the Federal Reserve System.

ACTION: Policy statement: Delay of effective date; Correction.

SUMMARY: The Board is announcing the delay of the implementation of changes to the procedures for measuring daylight overdrafts for Treasury Investment Program transactions as a result of the Treasury Investment Program's implementation delay. The Board is also announcing posting-time corrections for three transactions.

EFFECTIVE DATE: The effective date of amendments published at 65 FR 33734 and 33735 are delayed indefinitely.

FOR FURTHER INFORMATION CONTACT: Myriam Payne, Manager (202/452-3219), Stacy Coleman, Senior Financial Services Analyst (202/452-2934), or Donna DeCorleto, Project Leader (202/452-3956), Division of Reserve Bank Operations and Payment Systems; for the hearing impaired only: Telecommunications Device for the Deaf, Janice Simms (202/872-4984).

SUPPLEMENTARY INFORMATION:

Background

On May 24, 2000, the Board published modifications to the procedures for measuring daylight overdrafts for Treasury Investment Program (TIP) and Paper Tax System (PATAX) transactions (65 FR 33734). The TIP and PATAX applications were scheduled to replace the Treasury Tax and Loan (TT&L) system on July 10, 2000. On July 5, 2000, the Department of the Treasury announced the implementation delay of the TIP and PATAX applications (65 FR 41522). The Board will announce the revised effective dates of the modifications to the procedures for measuring daylight overdrafts once a new implementation date is established.¹

¹ To allow sufficient time for depository institutions to adjust to the various operational changes associated with TIP, the Board approved a transition period in which most TIP transactions resulting in debits to depository institutions' accounts would post after the close of Fedwire. After this transition period, the Federal Reserve will post all TIP transactions resulting in debits to depository institutions' accounts on a flow basis as TIP processes them.

Need for Correction

As published, the posting time for same-day Treasury withdrawals announced by 11:30 a.m. ET is incorrect and the posting times for Main Account Administrative Withdrawals and SDI (Special Direct Investment) Withdrawals were omitted.

Correction of Publication

Accordingly, the amendments published on May 24, 2000, at 65 FR 33735, which was subject of FR Doc. 00-13016, are corrected as follows:

Policy Statement on Payments System Risk [Corrected]

1. On page 33735, column 2, line 10 from the top of the column, the language “+ Main Account Administrative Investment from TIP” is corrected to read “+/− Main Account Administrative Investment or Withdrawal from TIP.”

2. On page 33735, column 2, line 12 from the top of the column, the language “+ SDI (Special Direct Investment) or Administrative Investment from TIP;” is corrected to read “+/− SDI (Special Direct Investment) or Administrative Investment or Withdrawal from TIP.”

3. On page 33735, column 2, line 24 from the top of the column, the language “Post at 8:30 a.m., 11:30 a.m., and 6:30 p.m. Eastern Time:—Main Account Treasury Withdrawals from TIP” is corrected to read “Post at 8:30 a.m., 1:00 p.m., and 6:30 p.m. Eastern Time:—Main Account Treasury Withdrawals from TIP.”

By order of the Board of Governors of the Federal Reserve System, July 6, 2000.
Robert deV. Frierson,
Associate Secretary of the Board.

[FR Doc. 00-17552 Filed 7-10-00; 8:45 am]

BILLING CODE 6210-01-M